SECURITIES AND EXCHANGE COMMISSION

[Release No. 34-78290; File No. SR-NASDAQ-2016-071]

Self-Regulatory Organizations; The NASDAQ Stock Market LLC; Notice of Designation of a Longer Period for Commission Action on Proposed Rule Change To List and Trade Shares of the First Trust CEF Income Opportunity ETF and the First Trust Municipal CEF Income Opportunity ETF

July 12, 2016.

On May 10, 2016, The NASDAQ Stock Market LLC (“Exchange”) filed with the Securities and Exchange Commission (“Commission”), pursuant to section 19(b)(1) of the Securities Exchange Act of 1934 (“Act”) ¹ and Rule 19b-4 thereunder,² a proposed rule change to list and trade shares of the First Trust CEF Income Opportunity ETF and the First Trust Municipal CEF Income Opportunity ETF under Nasdaq Rule 5735, which governs the listing and trading of Managed Fund Shares. On May 20, 2016, the Exchange filed Amendment No. 1 to the proposed rule change. The proposed rule change was published for comment in the Federal Register on May 31, 2016.³ The Commission has received one comment letter on the proposed rule change.⁴

¹ 15 U.S.C. 78s(b)(1).

² 17 CFR 240.19b-4.

³ See Securities Exchange Act Release No. 77895 (May 24, 2016), 81 FR 34407.

⁴ See letter from Stephanie Price, dated May 31, 2016. This comment letter is available at: https://www.sec.gov/comments/sr-nasdaq-2016-071/nasdaq2016071-1.htm.

Section 19(b)(2) of the Act ⁵ provides that, within 45 days of the publication of notice of the filing of a proposed rule change, or within such longer period up to 90 days as the Commission may designate if it finds such longer period to be appropriate and publishes its reasons for so finding or as to which the self-regulatory organization consents, the Commission shall either approve the proposed rule change, disapprove the proposed rule change, or institute proceedings to determine whether the proposed rule change should be disapproved. The Commission is extending this 45-day time period. The Commission finds that it is appropriate to designate a longer period within which to take action on the proposed rule change so that it has sufficient time to consider the proposed rule change.

⁵ 15 U.S.C. 78s(b)(2).

Accordingly, the Commission, pursuant to section 19(b)(2) of the Act,⁶ designates August 29, 2016 as the date by which the Commission shall either approve or disapprove or institute proceedings to determine whether to disapprove the proposed rule change (File Number SR-NASDAQ-2016-071).

⁶ Id.

For the Commission, by the Division of Trading and Markets, pursuant to delegated authority.⁷
⁷ 17 CFR 200.30-3(a)(31).
Robert W. Errett,
Deputy Secretary.

[FR Doc. 2016-16851 Filed 7-15-16; 8:45 am]

BILLING CODE 8011-01-P